FEDERAL EMERGENCY MANAGEMENT AGENCY

Agency Information Collection Activities: Proposed Collection; Comment Request

ACTION: Notice and request for comments.

SUMMARY: The Federal Emergency Management Agency, as part of its continuing effort to reduce paperwork and respondent burden, invites the general public and other Federal agencies to take this opportunity to comment on proposed continuing information collections. In accordance with the Paperwork Reduction Act of 1995 (44 U.S.C. 3506(c)(2)(A)), this notice seeks comments concerning the information collection outlined in 44 CFR part 71, as it pertains to application for National Flood Insurance Program (NFIP) insurance for buildings located in Coastal Barrier Resource System (CBRS) communities.

Supplementary Information. The Coastal Barrier Resources Act (CBRA) Public Law 97-3480 and the Coastal Barrier Improvement Act (CBRA) Public Law 101-591 are federal laws that were enacted on October 1, 1982, and November 16, 1990, respectively. The legislation was implemented as part of a Department of the Interior (DOI) initiative to preserve the ecological integrity of areas DOI designates as coastal barriers and otherwise protected areas. The laws provide this protection by prohibiting all federal expenditures or financial assistance including flood insurance for residential or commercial development in areas identified with the system. When an application for flood insurance is submitted for buildings located in CBRS communities, documentation must be submitted as evidence of eligibility.

Collection of Information

Title: Implementation of Coastal Barrier Resources Act.

Type of Information Collection: Revision of a currently approved collection.

OMB Number: 3067-0120.

Abstract: Section II of the Coastal Barrier Resources Act (Pub. L. 97-348) prohibits the sale of National Flood Insurance Program policies for new construction and substantial improvement of structures on undeveloped coastal barriers on or after October 1, 1983. The information collection contained in FEMA regulation 44 CFR 71.4 is used by FEMA to determine that a structure is neither new construction nor a substantial improvement, and therefore is eligible for flood insurance. If the information is not collected, NFIP policies would be provided for buildings which are legally ineligible for it, thus exposing the Federal Government to an insurance liability Congress choose to limit.

Affected Public: Individuals or households; Business or other for-profit; Not-for-profit institutions; Farms; Federal Government; State, Local or Tribal Government.

Estimated Total Annual Burden Hours: 90 hours.

Number of respondents | Frequency of response | Hours per response | Annual burden hours
(A) | (B) | (C) | (A x B x C)
60 | Once per respondent | 1.5 | 90

Estimated Cost: Total estimated cost to the Federal Government is estimated to be $239 (60 responses x $3.99 per response) for NFIP servicing contractor. Total estimated cost to respondents is estimated to be $600 (60 responses x $10 per respondent) to include cost to make phone calls, mail written request, make trips to local office to obtain documentation and copying fees which may be charged by the local office.

Comments

Written comments are solicited to (a) evaluate whether the proposed data collection is necessary for the proper performance of the agency, including whether the information shall have practical utility; (b) evaluate the accuracy of the agency's estimate of the burden of the proposed collection of information, including the validity of the methodology and assumptions used; (c) evaluate the accuracy of the estimated costs to respondents to provide the information to the agency; (d) enhance the quality, utility, and clarity of the information to be collected; and (e) minimize the burden of the collection of information on those who are to respond, including through the use of appropriate automated, electronic, mechanical, or other technological collection techniques or other forms of information technology, e.g., permitting electronic submission of responses. Comments should be received within 60 days of the date of this notice.

ADDRESSES: Interested persons should submit written comments to Muriel B. Anderson, Chief, Records Management Branch, Program Services Division, Operations Support Directorate, Federal Emergency Management Agency, 500 C Street, SW., Room 316, Washington, DC 20472.

FOR FURTHER INFORMATION CONTACT: Contact Robin Williamson, Insurance Examiner, Federal Insurance Administration at (202) 646-3963 for additional information about this collection. You may contact Ms. Anderson for copies of the proposed collection of information at telephone number (202) 646-2625 or facsimile number (202) 646-3347 or email muriel.anderson@fema.gov.

Dated: June 13, 2001.
Reginald Trujillo,
Director, Program Services Division, Operations Support Directorate.

[FR Doc. 01-15711 Filed 6-21-01; 8:45 am]

BILLING CODE 6718-01-U